NATIONAL SCIENCE FOUNDATION

Proposal Review Panel for Physics; Notice of Meeting

In accordance with the Federal Advisory Committee Act (Pub. L. 92-463, as amended), the National Science Foundation (NSF) announces the following meeting:

Name and Committee Code: Virtual Site Review of construction progress of the ATLAS High Luminosity Detector Upgrade (1208).

Date and Time: August 18, 2021; 10:30 a.m.—6:30 p.m. EDT.

Place: Columbia University, 538 West 120th Street, 704 Pupin Hall, MC 5255, New York, NY 10027|Virtual Site Visit via Zoom.

Type of Meeting: Part-Open.

Contact Person: Mark Coles, Program Director, Division of Physics, National Science Foundation, 2415 Eisenhower Avenue, Room 9219, Alexandria, VA 22314; Telephone: (703) 292-4432.

Purpose of Meeting: Virtual site visit to provide an evaluation of the progress of the project at the host site for the Division of Physics at the National Science Foundation.

Agenda

NSF will provide the Zoom coordinates for each meeting (All times are Eastern Daylight Time (EDT)).

August 18, 2021

10:30 a.m.-11:00 a.m. Executive Session (Closed)

11:00 a.m.-5:00 p.m. Presentations on the ATLAS upgrade (Open)

5:00 p.m.-6:00 p.m. Executive (closed) Session (Closed)

6:00 p.m.-6:30 p.m. Closeout presentation by Review Panel (Open)

Reason for Closing: The work being reviewed during closed portions of the virtual site visit include information of a proprietary or confidential nature, including technical information; financial data, such as salaries and personal information concerning individuals associated with the project. These matters are exempt under 5 U.S.C. 552b(c), (4) and (6) of the Government in the Sunshine Act.

Dated: June 23, 2021.
Crystal Robinson,
Committee Management Officer.

[FR Doc. 2021-13674 Filed 6-25-21; 8:45 am]

BILLING CODE 7555-01-P